DEPARTMENT OF COMMERCE

International Trade Administration

Amendment to Notice

AGENCY: International Trade Administration, Department of Commerce.

SUMMARY: This notice amends the June 30th notice (71 FR 37543) to extend the deadline to October 27, 2006, for submission of applications for the Summit only portion of the Department of Commerce Under Secretarial Business Development Mission to India and to raise the ceiling on the number of participants for the Summit portion of the Mission to 230. These changes are implemented in response to overwhelming interest on the part of the U.S. business community and an agreement on the part of the Summit sponsors in India to accommodate an increased participant base. The application for the Summit portion of the India Business Development Mission is available in a downloadable fax-back version on the event Web site: http://export.gov/indiamission. The application may also be completed and submitted online. Leaders of U.S. business, industry, education, and state and local government are among those encouraged to take part in the Summit, where strategic breakout sessions will provide access to India's high-level business, industry, and government representatives and insights into the country's trade and investment climate. The deadline to apply for the post-Summit spin-off missions to be held in Bangalore, Kolkata, Chennai, Hyderabad, Mumbai, and New Delhi remains October 2, 2006. The spin-off missions are open to qualified U.S. business representatives seeking one-on-one business appointments with prospective agents, distributors, partners, and end-users. Applications for the spin-off missions are available on the above-cited event Web site. Selection criteria and procedures for the Summit and spin-off missions are included in the Trade Mission Statement on the Web site.

FOR FURTHER INFORMATION CONTACT: Nancy Hesser at the Department of Commerce in Washington, DC. Telephone: (202) 482-4663. Fax: (202) 482-2718. Both downloadable and online versions of the application for the Summit and the spin-off missions are available on the event Web site: http://export.gov/indiamission.

Nancy Hesser,
Manager, Commercial Service Trade Missions Program.

[FR Doc. E6-16221 Filed 9-29-06; 8:45 am]

BILLING CODE 3510-25-P